ENVIRONMENTAL PROTECTION AGENCY

40 CFR Part 300

[EPA-HQ-SFUND-1989-0011; FRL-9972-58—Region 9]

National Oil and Hazardous Substances Pollution Contingency Plan; National Priorities List: Partial Deletion of the Pacific Coast Pipe Lines Superfund Site

AGENCY: Environmental Protection Agency.

ACTION: Notice of proposed rulemaking.

SUMMARY: The Environmental Protection Agency (EPA) Region 9 is issuing a Notice of Intent for Partial Deletion of the surface soil portion of the Pacific Coast Pipe Lines (PCPL) Superfund Site (Site) located in Fillmore, California, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). EPA and the State of California, through the Department of Toxic Substances Control (DTSC), have determined that there is no exposure to contaminated soil at the Site and that all appropriate response actions at the identified parcel under CERCLA, other than maintenance, monitoring and five-year reviews, have been completed. However, this deletion does not preclude future actions under Superfund.

This partial deletion pertains to the surface soil; a map indicating the area to be deleted is in the public docket. The groundwater will remain on the NPL and is not being considered for deletion as part of this action.

DATES: Comments must be received by January 25, 2018.

ADDRESSES: Submit your comments, identified by Docket ID no. EPA-HQ-SFUND-1989-0011, by one of the following methods:

• http://www.regulations.gov. Follow on-line instructions for submitting comments.

• Email: Project Manager: Hadlock.holly@epa.gov or Community Involvement Coordinator: Lane.jackie@epa.gov.

• Mail: Holly Hadlock (SFD-7-3), U.S. EPA, 75 Hawthorne Street, San Francisco, CA 94105.

• Hand delivery: Holly Hadlock (SFD-7-3), U.S. EPA, 75 Hawthorne Street, San Francisco, California. Such deliveries are accepted only during EPA's normal hours of operation, and special arrangements should be made for deliveries of boxed information.

Instructions: Direct your comments to Docket ID no. EPA-HQ-SFUND-1989-0011. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at the following repositories:

Superfund Records Center, 75 Hawthorne Street Room 3110, San Francisco, California, Hours: 8:00 a.m.-4:00 p.m.; (415) 947-8717.

Site Repository: Fillmore Library, 502 2nd Street, Fillmore, California. Call (805) 524-3355 for hours of operation.

FOR FURTHER INFORMATION CONTACT: Holly Hadlock, Remedial Project Manager, U.S. EPA, Region 9 (SFD-7-3), 75 Hawthorne Street, San Francisco, CA 94105, (415) 972-3171, email: hadlock.holly@epa.gov.

SUPPLEMENTARY INFORMATION:

Table of Contents

I. Introduction

II. NPL Deletion Criteria

III. Deletion Procedures

IV. Basis for Intended Partial Site Deletion

I. Introduction

EPA Region 9 announces its intent to delete the surface soil portion of the PCPL Superfund Site from the NPL and requests public comment on this proposed action. The NPL constitutes Appendix B of 40 CFR part 300 which is the National Oil and Hazardous Substances Pollution Contingency Plan (NCP), which EPA promulgated pursuant to Section 105 of the Comprehensive Environmental Response, Compensation and Liability Act (CERCLA) of 1980, as amended. EPA maintains the NPL in order to identify sites that appear to present a significant risk to public health, welfare, or the environment. Sites on the NPL are eligible for remedial actions financed by the Hazardous Substance Superfund (Fund). This partial deletion of the Pacific Coast Pipeline Site is proposed in accordance with 40 CFR 300.425(e) and is consistent with the Notice of Policy Change: Partial Deletion of Sites Listed on the National Priorities List. 60 FR 55466 (Nov. 1, 1995). As described in 300.425(e)(3) of the NCP, a portion of a site deleted from the NPL remains eligible for Fund-financed remedial action if future conditions warrant such actions.

EPA will accept comments on the proposal to partially delete this site for thirty (30) days after publication of this document in the Federal Register.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the surface soil portion of the Site:

(1) EPA consulted with the State before developing this Notice of Intent for Partial Deletion.

(2) EPA has provided the State 30 working days for review of this notice prior to publication of it today.

(3) In accordance with the criteria discussed above, EPA has determined that no further response is appropriate.

(4) The State of California, through DTSC, has concurred with the deletion of the surface soil portion of the Pacific Coast Pipe Lines Superfund Site from the NPL.

(5) Concurrently, with the publication of this Notice of Intent for Partial Deletion in the Federal Register, a notice is being published in two major local newspapers, the Ventura County Star and the Fillmore Gazette. The notices announce the 30-day public comment period concerning the Notice of Intent for Partial Deletion of the Site from the NPL.

(6) EPA placed copies of documents supporting the proposed partial deletion in the deletion docket and made these items available for public inspection and copying at the Site information repositories identified above.

If comments are received within the 30-day comment period on this document, EPA will evaluate and respond accordingly to the comments before making a final decision to delete the surface soil portion. If necessary, EPA will prepare a Responsiveness Summary to address any significant public comments received. After the public comment period, if EPA determines it is still appropriate to delete the surface soil portion of the PCPL Superfund Site, the Regional Administrator will publish a final Notice of Partial Deletion in the Federal Register. Public notices, public submissions and copies of the Responsiveness Summary, if prepared, will be made available to interested parties and included in the site information repositories listed above.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Partial Site Deletion

The following information provides EPA's rationale for deleting the surface soil portion of the PCPL Superfund Site from the NPL:

Site Background and History

The Site (CERCLIS ID #CAD980636781) is just east of the City of Fillmore in Ventura County, California. It is north of Highway 126 and the Santa Clara River and east of Pole Creek. It was a former oil refinery that shut down in 1950, then a crude oil pumping station until 2002. Refinery wastes from numerous on-site waste pits resulted in groundwater becoming contaminated with benzene, toluene, ethylbenzene, and xylene. On June 24, 1988, the Site was proposed for NPL listing (53 FR 23988). On October 4, 1989, EPA added the Site to the NPL (54 FR 41015). There is one site-wide Operable Unit that covers both groundwater and surface soil. The surface soil is being addressed in this proposed action. A map of the proposed deletion area is in the docket.

Ongoing Development

The 55-acre former refinery property is zoned for industrial and agricultural use. Land use in the surrounding area is commercial, residential, agricultural, and undeveloped open space. Concurrent with the remedial action, the property was graded into lots for commercial use. The property owner, Chevron Corporation, has leased the property to Cenergy Power for use as a solar energy facility.

2011 Remedial Investigation and Feasibility Study (RI/FS)

In 2011 EPA conducted a focused RI of the surface soil, defined as 0 to 10 feet below ground surface (bgs) for the Site, to determine the nature and extent of soil contamination and to evaluate the potential for soil vapor intrusion. Investigations before the 1992 Record of Decision (ROD) determined that the surface soil was no longer a source of contamination to groundwater because none of the contaminants in the soil were found in the groundwater. Because the contaminants in soil were not migrating to groundwater, EPA limited its soil investigation for the 2011 RI to the surface soil. EPA concluded that there are no exposure pathways for contaminants below 10 feet bgs, as no on-site workers, recreational users, residents, or ecological receptors would be exposed to contaminants below 10 feet.

The primary contaminants of concern in the soil were lead and polycyclic aromatic hydrocarbons (PAHs). Three contaminants were detected in soil gas above health-based screening levels in a few areas on the Site: Benzene, ethylbenzene, and naphthalene. The vapor intrusion investigation conducted as part of the 2011 RI showed that benzene in groundwater does not pose a vapor intrusion health risk because the benzene vapors are naturally biodegrading to concentrations below health-based levels before making their way to the surface.

EPA evaluated five remedial alternatives for the soil remedy in the 2011 FS: (1) No action; (2) excavation with off-site disposal; (3) excavation with on-site disposal and capping; (4) excavation with composting; and (5a and 5b) excavation with solidification and on-site disposal (two solidification options were evaluated). All alternatives except for the no action alternative included institutional controls to restrict future use of the property. Alternatives 4 and 5b did not address all soil contaminants and EPA deemed them, along with Alternative 1, not protective of human health and the environment.

2011 Remedy for Soils

EPA selected Alternative 3 for the soil remedy in the ROD Amendment dated September 29, 2011. An earlier ROD for the site, dated March 31, 1992, selected groundwater extraction and treatment as the remedy for the contaminated groundwater and soil vapor extraction for the contaminated vadose zone but did not address soil contamination at the Site. The major components of the soil remedy were: (1) Consolidation of excavated soil in a former on-site waste pit; (2) an engineered cap to prevent leaching of contaminants into groundwater; and (3) institutional controls to ensure the cap integrity would be maintained and to restrict the future use of the property to commercial and recreational uses only. The Remedial Action Objectives for soil were: (1) Prevent human exposure through direct dermal contact, ingestion, and inhalation of shallow soil and soil vapor contaminated above threshold levels for commercial land use, construction activities, and recreational activities; (2) prevent contaminants in waste pit (lead, PAHs) from migrating into underlying groundwater; and (3) reduce contamination in soil below toxicity threshold levels so it is not toxic to the plants and animals of the existing scrub habitat.

The 2011 ROD Amendment cleanup level for surface soil lead is 320 mg/kg. This concentration, based on the Adult Blood-Lead Model, could result in a blood-lead concentration equal to 1 µg/dL in exposed workers and recreational users. In selecting this cleanup level, EPA has prohibited the Site being used for residences, schools, day cares, or a hospital. In addition, two other lead cleanup levels were chosen for ecological receptors in the hillside scrub habitat at the east edge of the site: 26 mg/kg for the top six inches of soil and 56 mg/kg for soil from six inches down to six feet.

Response Actions

Pursuant to a Consent Decree, Chevron prepared all remedial design (RD) documents and conducted all soil cleanup activities with EPA and DTSC oversight. RD activities included preparing work plans and design documents, notifying the public, obtaining necessary permits, and conducting additional soil sampling to further delineate the lateral extent of contamination and to determine if the historical soil berms throughout the Site had contamination exceeding ROD Amendment cleanup levels. The main consolidation area (CA) was designed to accommodate 23,500 cubic yards (cy) of soil; however, a supplemental CA was designed as a contingency in case more volume was needed than the original estimate of 19,600 cy.

RA construction activities took place during two construction seasons, from May 2013 to November 2013 and from March 2014 to November 2014. Contaminated soil was removed from locations with concentrations above cleanup levels including 39 locations with elevated lead, 40 locations with elevated PAHs, and 17 locations with elevated levels of both. In addition, it was determined that elevated levels of chemicals with soil gas survey results exceeding risk-based criteria were co-located with soil containing elevated levels of PAHs and these soils were removed during excavation (RA Report, page 13). Approximately 43,612 cy of soil were excavated during the RA. 41,899 cy were placed in the two CAs: 22,425 cy in the main CA and 19,474 cy in the Supplemental CA. The remaining 1,713 cy, encountered and excavated after the two CA caps were in place, were disposed of as a non-hazardous waste at Clean Harbors' Buttonwillow, California, landfill because these soils did not meet hazardous waste criteria and did not contain RCRA-listed waste. Once analytical results from the lab confirmed that ROD Amendment soil-cleanup levels had been met, the excavations were backfilled with clean fill. A 5-foot-thick engineered cap was placed on each CA. Each cap consists of several layers designed to prevent penetration and vertical water infiltration.

Cleanup Levels

EPA reviewed data from soil samples collected and analyzed from each excavation location to confirm that ROD Amendment cleanup levels had been met. Post-remediation soil vapor sampling was conducted to confirm that soil gas cleanup levels had been met. In 2015 EPA determined that all contaminants of concern were below their cleanup levels and that the remedy was functioning as designed.

Operation, Maintenance, and Monitoring

The operation, maintenance, and monitoring (OM&M) of the soil remedy includes periodic inspections of the CA caps and performance of any necessary maintenance. The Final Soil Operation, Maintenance, and Monitoring Plan establishes an inspection, monitoring, and maintenance program and a schedule of activities for the first five years following the 2014 completion of the soil RA. Chevron is responsible for OM&M activities and EPA is responsible for oversight.

Institutional Controls/Restrictions on Use of the Site

The soil remedy for the Site includes institutional controls to restrict future property use to commercial and recreational purposes and to limit actions that could interfere with the remedy (the caps). Consistent with the institutional controls selected in the ROD Amendment, EPA, DTSC, and Chevron developed a land use covenant to restrict the use of the Site; this covenant was recorded at the Ventura County Recorder's Office on August 19, 2016, and “runs with the land,” meaning the restrictions are binding on current and subsequent property owners and remain in effect until they are formally removed or modified. A copy of the covenant is in the docket.

2016 Five-Year Review

EPA conducts reviews every five years to determine if remedies are functioning as intended and if they continue to be protective of human health and the environment. Because contaminants remain in the PCPL Site soil above levels that would allow for unlimited use and unrestricted exposure, EPA will continue to conduct five-year reviews, as required by statute. EPA issued the Fourth Five-Year Review Report on August 22, 2016, and concluded that the soil remediation is complete and the remedy at the PCPL Site is functioning as intended and is protective of human health and the environment in both the short-term and the long-term. There were no issues or recommendations. EPA will conduct the next five-year review in 2021.

Community Involvement

EPA prepared a Community Involvement Plan in 2011. EPA held numerous community meetings before and during the soil cleanup, and issued fact sheets and postcard updates. EPA also conducted Site tours before the soil cleanup began. At EPA's request, the Agency for Toxic Substances and Disease Registry prepared a Health Consultation that evaluated the possible health effects from airborne dust at the Site. It concluded that community members were not likely to be exposed to lead or PAHs in Site soil or dust at levels that could cause health effects. EPA released a fact sheet shortly before publication of this Notice informing the community of the proposal to delete the surface soil portion of the Site from the NPL and how to submit comments.

Determination That the Criteria for Deletion Have Been Met

EPA has followed all procedures required by 40 CFR 300.425(e), Deletion from the NPL. EPA consulted with the State of California prior to developing this Notice. EPA determined that the responsible party has implemented all appropriate response actions required and that no further response action for the surface soil portion of the Site is appropriate. EPA is publishing a notice in two major local newspapers, The Ventura County Star and the Fillmore Gazette, of its intent to partially delete the Site and how to submit comments. EPA placed copies of documents supporting the proposed partial deletion in the Site information repositories; these documents are available for public inspection and copying.

The implemented soil remedy achieved the degree of cleanup and protection specified in the ROD Amendment for the surface soil portion of the Site. The selected remedial action objectives and associated cleanup levels for the surface soil are consistent with agency policy and guidance. Based on information currently available to EPA, no further Superfund response in the area proposed for deletion is needed to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p.306; E.O. 12777, 56 FR 54757, 3 CFR, 1991 Comp., p.351; E.O. 12580, 52 FR 2923, 3 CFR, 1987 Comp., p. 193.

Dated: December 18, 2017.
Alexis Strauss,
Acting Regional Administrator.

[FR Doc. 2017-27794 Filed 12-22-17; 8:45 am]

BILLING CODE 6560-50-P